DEPARTMENT OF AGRICULTURE

Natural Resources Conservation Service

AGENCY: Natural Resources Conservation Service, USDA.

ACTION: Notice of meeting.

SUMMARY: The Natural Resources Conservation Service (NRCS) will hold a Farm Bill 2002 National Technical Service Provider Summit entitled “Expanding the Capabilities of Conservation Service on Private Lands.” The purpose of this event is to initiate a Departmental dialogue with potential technical service providers. The Summit is open to the public.

DATES: The Summit will convene Thursday, November 7, 2002. Registration will start at 8 a.m., followed by a panel session. The afternoon listening session will continue until 4 p.m., with opportunities for statements on ways to successfully implement a Technical Service Provider Process.

ADDRESSES: The Summit will be held at the Jefferson Auditorium of the Department of Agriculture's (USDA) South Building, 1400 Independence Ave., SW., Washington, DC. Participants should enter the building through the 5th wing entrance of the South Building, located on the corner of Independence Avenue and 14th Street. Participants should note that in order to access the building, they must bring valid photo identification and allow for time to be checked in at the security station. Weapons of any type, including protective sprays, are prohibited in the building. Requests to make statements should be sent to Marilou Flores, USDA/NRCS Technical Service Provider Group. Speakers will be limited to three minutes. Written statements will also be accepted, and should be addressed to Melissa M. Hammond, Group Leader, Technical Service Provider Group, USDA/Natural Resources Conservation Service, Washington, DC. Elements for which potential private and public technical service providers may provide statements include:

• Technical Service Provider Process.

• Payment Process.

• Payment Rates.

• Certification.

• Decertification.

• Quality Assurance Process.

• Training.

• Liability.

• Competition.

FOR FURTHER INFORMATION CONTACT: Marilou Flores, Management Analyst, USDA/NRCS Technical Service Provider Group; telephone: (202) 720-0427; fax: (202) 720-3052; e-mail: marilou.flores@usda.gov.

SUPPLEMENTARY INFORMATION: This summit will also be broadcast nationally as a live satellite telecast available through satellite downlink and web streaming. Additional information about this summit that occurs after this Federal Register notice is published, may be found on the World Wide Web at http://www.nrcs.usda.gov/.

Information on Services for Individuals With Disabilities: For information on facilities, or services for individuals with disabilities, or to request special assistance at the Summit, contact Marilou Flores.

USDA prohibits discrimination in its programs and activities on the basis of race, color, national origin, gender, religion, age, sexual orientation, or disability. Statutes enforced by USDA also prohibit discrimination on the basis of political beliefs and marital or family status (not all prohibited bases apply to all programs). Persons with disabilities who require alternate means for communication or program information (Braille, large print, audio tape, etc.) should contact USDA's Target Center at (202) 720-2000 (voice and TDD).

To file a complaint of discrimination to USDA, write to the Director, Office of Civil Rights, Room 326-W, Whitten Building, 1400 Independence Avenue, SW., Washington, DC 20250-9410; or call (202) 720-5964 (voice and TDD). The USDA is an equal opportunity provider and employer.

Signed in Washington, DC on October 21, 2002.
Thomas A. Weber,
Associate Chief, Natural Resources Conservation Service.

[FR Doc. 02-27298 Filed 10-25-02; 8:45 am]

BILLING CODE 3410-16-P